DEPARTMENT OF COMMERCE

Foreign-Trade Zones Board

[B-42-2020]

Foreign-Trade Zone (FTZ) 219—San Luis, Arizona; Notification of Proposed Production Activity; Barco Stamping Co., Inc. (Stamped Lighting Fixture Components); Yuma, Arizona

The Greater Yuma Economic Development Corporation, grantee of FTZ 219, submitted a notification of proposed production activity to the FTZ Board on behalf of Barco Stamping Co., Inc. (Barco), located in Yuma, Arizona. The notification conforming to the requirements of the regulations of the FTZ Board (15 CFR 400.22) was received on June 24, 2020.

The grantee has submitted a separate application for FTZ designation at the company's facility under FTZ 219. The facility is used for the production of stamped metal products. Pursuant to 15 CFR 400.14(b), FTZ activity would be limited to the specific foreign-status materials and components and specific finished products described in the submitted notification (as described below) and subsequently authorized by the FTZ Board.

Production under FTZ procedures could exempt Barco from customs duty payments on the foreign-status components used in export production. On its domestic sales, for the foreign-status materials/components noted below, Barco would be able to choose the duty rates during customs entry procedures that apply to the following stamped lighting fixture components: Plates (driver mounting; top; back; wall mounting); pipe clamps; latches; end caps; trays (lighting; power); bird guards; brackets (Romex®; wall pole mount; for aluminum frame (hinge; latch); emergency battery; hanger bar; heat sink interface; socket; torsion spring); can blanks; covers (arm; driver); heatsink base mounting surfaces; heatsinks; bracket junction boxes; can tops; doubler panels; hanger bars; hanger bar carriers; housings; junction boxes and related components (assemblies; covers; supports; voltage dividers); plaster frames; collars; and, trim rings (duty rate—6%). Barco would be able to avoid duty on foreign-status components which become scrap/waste. Customs duties also could possibly be deferred or reduced on foreign-status production equipment.

The components and materials sourced from abroad include flat rolled aluminum alloy coil, zinc coated flat rolled galvanized steel coil, flat rolled cold rolled steel coil, and galvanized steel roll (duty rate ranges from duty-free to 3%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is August 11, 2020.

A copy of the notification will be available for public inspection in the “Reading Room” section of the Board's website, which is accessible via www.trade.gov/ftz.

For further information, contact Juanita Chen at juanita.chen@trade.gov or 202-482-1378.

Dated: June 29, 2020.
Elizabeth Whiteman,
Acting Executive Secretary.

[FR Doc. 2020-14335 Filed 7-1-20; 8:45 am]

BILLING CODE 3510-DS-P